DEPARTMENT OF LABOR

Employment and Training Administration

Labor Certification Process for the Temporary Employment of Aliens in Agriculture in the United States: 2013 Adverse Effect Wage Rates

AGENCY: Employment and Training Administration, Department of Labor.

ACTION: Notice.

SUMMARY: The Employment and Training Administration (ETA) of the Department of Labor (Department) is issuing this notice to announce the 2013 Adverse Effect Wage Rates (AEWRs) for the employment of temporary or seasonal nonimmigrant foreign workers (H-2A workers) to perform agricultural labor or services.

AEWRs are the minimum wage rates the Department has determined must be offered and paid by employers to H-2A workers and workers in corresponding employment for a particular agricultural job and area so that the wages of similarly employed U.S. workers will not be adversely affected. 20 CFR 655.100(b). In this notice, the Department announces the AEWRs for 2013.

DATES: Effective Date: This notice is effective January 8, 2013.

FOR FURTHER INFORMATION CONTACT: William L. Carlson, Ph.D., Administrator, Office of Foreign Labor Certification, U.S. Department of Labor, Room C-4312, 200 Constitution Avenue NW., Washington, DC 20210. Telephone: 202-693-3010 (this is not a toll-free number).

SUPPLEMENTARY INFORMATION: The U.S. Citizenship and Immigration Services of the Department of Homeland Security will not approve an employer's petition for the admission of H-2A nonimmigrant temporary agricultural workers in the U.S. unless the petitioner has received from the Department an H-2A labor certification. The labor certification provides that: (1) There are not sufficient U.S. workers who are able, willing, and qualified and who will be available at the time and place needed to perform the labor or services involved in the petition; and (2) the employment of the foreign worker(s) in such labor or services will not adversely affect the wages and working conditions of workers in the U.S. similarly employed. 8 U.S.C. 1101(a)(15)(H)(ii)(a), 1184(c)(1), and 1188(a); 8 CFR 214.2(h)(5).

Adverse Effect Wage Rates for 2013

The Department's H-2A regulations at 20 CFR 655.120(l) provide that employers must pay their H-2A workers and workers in corresponding employment at least the highest of: (i) The AEWR; (ii) the prevailing hourly wage rate; (iii) the prevailing piece rate; (iv) the agreed-upon collective bargaining wage rate, if applicable; or (v) the Federal or State minimum wage rate, in effect at the time the work is performed.

Except as otherwise provided in 20 CFR part 655, subpart B, the region-wide AEWR for all agricultural employment (except those occupations deemed inappropriate under the special procedure provisions of 20 CFR 655.102) for which temporary H-2A certification is being sought is equal to the annual weighted average hourly wage rate for field and livestock workers (combined) in the State or region as published annually by the United States Department of Agriculture (USDA). 20 CFR 655.120(c) requires that the Administrator of the Office of Foreign Labor Certification publish the USDA field and livestock worker (combined) wage data as AEWRs in a Federal Register notice. Accordingly, the 2013 AEWRs to be paid for agricultural work performed by U.S. and H-2A workers on or after the effective date of this notice are set forth in the table below:

Table—2013 Adverse Effect Wage Rates
State | 2013 AEWRs
Alabama | $9.78
Arizona | 9.73
Arkansas | 9.50
California | 10.74
Colorado | 10.08
Connecticut | 10.91
Delaware | 10.87
Florida | 9.97
Georgia | 9.78
Hawaii | 12.72
Idaho | 9.99
Illinois | 11.74
Indiana | 11.74
Iowa | 11.41
Kansas | 12.33
Kentucky | 9.80
Louisiana | 9.50
Maine | 10.91
Maryland | 10.87
Massachusetts | 10.91
Michigan | 11.30
Minnesota | 11.30
Mississippi | 9.50
Missouri | 11.41
Montana | 9.99
Nebraska | 12.33
Nevada | 10.08
New Hampshire | 10.91
New Jersey | 10.87
New Mexico | 9.73
New York | 10.91
North Carolina | 9.68
North Dakota | 12.33
Ohio | 11.74
Oklahoma | 10.18
Oregon | 12.00
Pennsylvania | 10.87
Rhode Island | 10.91
South Carolina | 9.78
South Dakota | 12.33
Tennessee | 9.80
Texas | 10.18
Utah | 10.08
Vermont | 10.91
Virginia | 9.68
Washington | 12.00
West Virginia | 9.80
Wisconsin | 11.30
Wyoming | 9.99

Pursuant to the H-2A regulations at 20 CFR 655.173, the Department will publish a separate Federal Register notice in early 2013 to announce (1) the allowable charges for 2013 that employers seeking H-2A workers may charge their workers for providing them three meals a day; and (2) the maximum travel subsistence reimbursement that a worker with receipts may claim in 2013.

Signed in Washington, DC on this 13th day of December, 2012.
Jane Oates,
Assistant Secretary, Employment and Training Administration.

[FR Doc. 2013-00117 Filed 1-7-13; 8:45 am]

BILLING CODE 4510-FP-P